DEPARTMENT OF JUSTICE

[Docket No. OLP 158]

Notice of Public Comment Period on the Presentation of the Forensic Science Discipline Review Framework

AGENCY: Department of Justice.

ACTION: Notice.

SUMMARY: This notice announces the opening of the public comment period on the Forensic Science Discipline Review (FSDR) of testimony draft methodology.

DATES: Written public comment regarding the draft methodology should be submitted through www.regulations.gov before August 1, 2016.

FOR FURTHER INFORMATION CONTACT: The Office of Legal Policy, 950 Pennsylvania Avenue NW., Washington, DC 20530, by phone at 202-514-4601 or via email at FSDR.OLP@usdoj.gov.

SUPPLEMENTARY INFORMATION:

The goal of the Forensic Science Discipline Review (FSDR) of testimony is to advance the use of forensic science in the courtroom by understanding its use in recent cases and to facilitate any necessary steps to ensure that expert forensic testimony is consistent with scientific principles and just outcomes. In order to accomplish this goal, the Department is planning a Department-level review of forensic testimony by Department personnel beginning with an examination of FBI testimony. The Department proposes to review and evaluate trial testimony provided by FBI forensic examiners in several forensic disciplines in state and federal cases for a five-year period (2008-2012). All cases in which an FBI examiner testified in these disciplines—and for which a transcript can be obtained—are proposed to be reviewed. Which disciplines will be reviewed and the order in which disciplines will be reviewed has not been determined, in part because the development of the FSDR testimonial standards, against which the testimony of Department personnel will be compared, is ongoing.

The Department is undertaking this review because it is good management to conduct macro-level program reviews and not because of known or suspected problems with particular forensic science disciplines. The draft methodology proposes specific methodological decisions to evaluate testimony and seeks comment on additional issues. All elements in the draft methodology are subject to revision and comment is invited.

Posting of Public Comments: To ensure proper handling of comments, please reference “Docket No. OLP 158” on all electronic and written correspondence. The Department encourages all comments on this draft methodology be submitted electronically through www.regulations.gov using the electronic comment form provided on that site. Paper comments that duplicate the electronic submission are not necessary as all comments submitted to www.regulations.gov will be posted for public review and are part of the official docket record.

In accordance with the Federal Records Act, please note that all comments received are considered part of the public record, and shall be made available for public inspection online at www.regulations.gov. The comments to be posted may include personally identifiable information (such as your name, address, etc.) and confidential business information voluntarily submitted by the commenter.

DOJ will post all comments received on www.regulations.gov without making any changes to the comments or redacting any information, including any personally identifiable information provided. It is the responsibility of the commenter to safeguard personally identifiable information. You are not required to submit personally identifying information in order to comment on this presentation DOJ recommends that commenters not include personally identifiable information such as Social Security Numbers, personal addresses, telephone numbers, and email addresses that they do not want made public in their comments as such submitted information will be available to the public via www.regulations.gov. Comments submitted through www.regulations.gov will not include the email address of the commenter unless the commenter chooses to include that information as part of his or her comment.

Dated: June 21, 2016.
Kira Antell,
Senior Counsel, Office of Legal Policy.

[FR Doc. 2016-14975 Filed 6-23-16; 8:45 am]

BILLING CODE 4410-18-P